DEPARTMENT OF HEALTH AND HUMAN SERVICES

Centers for Disease Control and Prevention

[60 Day-07-05CV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Survey of 911 Emergency Treatment for Heart Disease and Stroke—New—National Center for Chronic Disease Prevention and Health Promotion (NCCDPHP), Centers for Disease Control and Prevention (CDC).

Background and Brief Description

CDC has a responsibility to monitor and reduce death and disability due to heart disease and stroke and needs information concerning Emergency Medical Services (EMS) practices to effectively coordinate national public health interventions. The proposed project will enhance CDC's understanding of the field practices of local emergency medical services (EMS) provider organizations and state level administration and oversight, and provide interaction with important stakeholders for partnering and cooperation. A survey will be conducted with approximately 2,250 local EMS departments focusing on standards of emergency care, treatment protocols, administrative oversight, training, certification, and service area characteristics. The survey sample includes all local EMS provider organizations in nine states (FL, MA, KS, MT, NM, PA, OR, SC, AR). The data collected will provide important insights into the “state of the practice” of pre-hospital emergency medical services related to cardiac and stroke care specifically. The study also will cover organizational and administrative aspects of EMS at the state and sub-state district level in the same nine states, major public and private stakeholders in the conduct of EMS, technical support issues, and practices related to positive outcomes in pre-hospital cardiac and stroke emergency care. Data analysis will include a compilation of the practices in use and comparison of organizational and administrative configurations.

There are no costs to respondents except their time to participate in the survey. The total estimated annualized burden hours are 563.

Estimate of Annualized Burden Hours
Respondents | Number of respondents | Number of responses per respondent | Average burden per response (in hours) | Total burden (in hours)
Survey of Local Level EMS agencies in nine states | 2250 | 1 | 15/60 | 563

Dated: January 29, 2007.
Joan F. Karr,
Acting Reports Clearance Officer, Centers for Disease Control and Prevention.

[FR Doc. E7-1776 Filed 2-2-07; 8:45 am]

BILLING CODE 4163-18-P